LIBRARY OF CONGRESS

Copyright Office

[Docket No. 2020-9]

Sovereign Immunity Study: Notice and Request for Public Comment

AGENCY: U.S. Copyright Office, Library of Congress.

ACTION: Notice of Inquiry; extension of comment period.

SUMMARY: The U.S. Copyright Office is extending the deadline for the submission of written comments in response to its June 3, 2020, notice of inquiry regarding its state sovereign immunity policy study. In addition, the Office is providing for a second round of written comments.

DATES: Initial written comments in response to the notice of inquiry published June 3, 2020, at 85 FR 34252, must be received no later than 11:59 p.m. Eastern Time on September 2, 2020. Written reply comments and empirical research studies must be received no later than 11:59 p.m. Eastern Time on October 2, 2020.

ADDRESSES: For reasons of government efficiency, the Copyright Office is using the regulations.gov system for the submission and posting of public comments in this proceeding. All comments are therefore to be submitted electronically through regulations.gov. Specific instructions for submitting comments are available on the Copyright Office website at http://www.copyright.gov/docs/sovereignimmunitystudy. If electronic submission of comments is not feasible due to lack of access to a computer and/or the internet, please contact the Office, using the contact information below, for special instructions.

FOR FURTHER INFORMATION CONTACT: Kevin Amer, Deputy General Counsel, kamer@copyright.gov; Mark T. Gray, Attorney-Advisor, mgray@copyright.gov; or Jalyce E. Mangum, Attorney-Advisor, jmang@copyright.gov. They can be reached by telephone at 202-707-3000.

SUPPLEMENTARY INFORMATION: On June 3, 2020, the U.S. Copyright Office issued a notice of inquiry (“NOI”) commencing a policy study on state sovereign immunity from copyright infringement suits.¹ Congress has requested that the Office “research this issue to determine whether there is sufficient basis for federal legislation abrogating State sovereign immunity when States infringe copyrights.” ² To assist Congress in making that assessment, the Office solicited public comment on several issues concerning the degree to which copyright owners face infringement from state actors today, whether such infringement is based on intentional or reckless conduct, and what remedies, if any, are available to copyright owners under state law.

¹ 85 FR 34252 (June 3, 2020).

² Letter from Sens. Thom Tillis & Patrick Leahy to Maria Strong, Acting Register of Copyrights, U.S.

Copyright Office at 1 (Apr. 28, 2020), https://www.copyright.gov/rulemaking/statesovereign-immunity/letter.pdf.

To ensure that members of the public have sufficient time to comment, and to ensure that the Office has the benefit of a complete record, the Office is extending the deadline for the submission of comments to 11:59 p.m. Eastern Time on September 2, 2020.

The Office has also determined that interested parties should be given an opportunity to address any comments submitted in response to the NOI. In addition, as noted in the NOI,³ the Office is seeking to provide sufficient time for parties engaged in empirical research in this area to complete and submit their findings. Accordingly, the Office is providing for a second round of written comments. Additional comments must be submitted no later than October 2, 2020. In general, these comments should be limited to issues or concerns presented in the initial comments. The Office will, however, consider any empirical research submitted by the October 2 deadline as part of the record in this proceeding.

³ See 85 FR at 34255.

Dated: June 22, 2020.
Regan A. Smith,
General Counsel and Associate Register of Copyrights.

[FR Doc. 2020-13725 Filed 6-23-20; 8:45 am]

BILLING CODE 1410-30-P